DEPARTMENT OF EDUCATION

Interagency Working Group on Assistive Technology Mobility Devices

AGENCY: Office of Special Education and Rehabilitative Services, Department of Education.

ACTION: Notice of public meeting and request for written comments.

SUMMARY: On February 12, 2003, President George W. Bush signed an Executive Memorandum establishing the Interagency Working Group on Assistive Technology Mobility Devices. For definitional purposes in this Executive Memorandum, “Assistive Technology Mobility Devices” are limited to classification code ‘F Mobility 502 Wheelchair,’ of the ‘National Classification System for Assistive Technology Devices and Services.’ This includes: attendant-controlled wheelchairs, manual wheelchairs (rear or front wheel drive), lever-driven wheelchairs, single side-driven non-powered wheelchairs, foot driven wheelchairs, electric powered wheelchairs, combustion powered wheelchairs, travel wheelchairs and scooters, sport wheelchairs, standing wheelchairs, and wheelchair accessories (classification codes 502.1 through 502.12, subject to exclusions).

This working group is charged with: (a) Identifying existing Federal Government programs and resources that are designed to help individuals with disabilities obtain the assistive technology mobility devices that they need for education and employment; and (b) working with State, local, and tribal governments, as appropriate, to identify State, local, and tribal programs that are designed to help individuals with disabilities obtain assistive technology mobility devices for education and employment. As a result of the Working Group's work, a report will be presented to the President including the specific steps that each of the agencies represented on the Working Group will take to: (a) Improve coordination among their existing programs; (b) train vocational rehabilitation counselors, other service providers, and individuals with disabilities, as provided by law; and (c) inform individuals with disabilities about these opportunities. The report shall also include a description of how individuals with disabilities can pool funding from existing resources to obtain the assistive technology mobility devices that they need to pursue their educational and employment goals.

The Secretary of Education is Chair of the Working Group. The Secretary announces a public forum and invites written comments with respect to the above provisions of the Executive Memorandum. Agency representatives from the Departments of Education, Health and Human Services, Labor, and Veterans Affairs and the Social Security Administration along with representatives from other federal agencies will be present to hear your comments.

During the public meeting and through the submission of written comments, we encourage individuals with disabilities, particularly individuals and persons who represent service providers, assistive technology research and policy, and service provider organizations, and representatives of advocacy organizations with specialized knowledge and experience, to suggest specific ways to improve existing funding sources for individuals with disabilities. We are also interested in hearing from individuals concerning how well the existing federal programs and resources are coordinating assistive technology services for individuals with disabilities—especially any barriers that they suggest interfere with an individual's option of pooling funding to obtain the assistive technology mobility devices they need to pursue their educational and employment goals. If you have any suggestions or recommendations on how to improve the existing structure, such as specific regulatory change, method to improve coordination or issuance of policy guidance to key service providers, we are particularly interested in these issues. Your information will be used by this Working Group in our deliberations; however, we will not respond individually to your comments.

Public Forum

We will hold a public forum on May 21, 2003, from 9 a.m. to 5 p.m. ET at the U.S. Department of Education, Barnhard Auditorium, 400 Maryland Avenue, SW., Washington, DC.

Participants: Individuals who wish to present comments at the public forum must reserve time on the agenda by contacting the individual identified under Reservations and Additional Meeting Information. Reservations for presenting comments will be accepted on a first-come, first-served basis. Given the expected number of individuals interested in providing comments at the forum, reservations for presenting comments should be made as soon as possible.

Participants will be allowed approximately 5 minutes to present their comments, depending upon the number of individuals who reserve time on the agenda. At the forum, participants also are strongly encouraged to submit two written copies of their comments, and other written or emailed information such as agency or organization policy statements, recommendations, research findings and research literature.

Reservations and Additional Meeting Information: All individuals attending the public forum, including those presenting comments, must make reservations by May 16, 2003 by contacting: Loretta Petty Chittum, Chair, Assistive Technology Mobility Devices Working Group, Deputy Assistant Secretary, Office of Special Education and Rehabilitative Services, 400 Maryland Avenue, SW., Room 3006, Switzer Building, Washington, DC 20202, FAX: (202) 205-9252, PHONE: (202) 205-5465, E-MAIL: OSERS.AT@ED.GOV. If time permits, individuals who have not registered may be allowed to make comments.

In addition to making reservations, individuals attending the public forum, for security purposes, must be prepared to show photo identification in order to enter the meeting location.

Assistance to Individuals With Disabilities at the Public Forum

The meeting room and proceedings will be accessible to individuals with disabilities. In addition, when making reservations, anyone presenting comments at or attending the forum who needs special accommodations, such as sign language interpreters, Brailled materials, and communications access real-time transcription, should inform the previously listed individual of his or her specific accessibility needs. You should make requests for accommodations at least 10 working days prior to the scheduling meeting date. Although we will attempt to meet a request we receive after that date, we may not be able to make available the requested auxiliary aid or service because of insufficient time to arrange it.

Request for Comments

In addition to soliciting input during the public forum, we invite the public to submit written or electronically mailed comments on how well the existing federal programs and resources are serving individuals with disabilities—especially any barriers they suggest interfere with an individual's option of pooling funding to obtain the assistive technology mobility devices they need to pursue their educational and employment goals. If you have any suggestions or recommendations on how to improve the existing structure, such as regulatory change, suggestions to improve interagency coordination, or policy guidance, we are particularly interested in these issues.

DATES: We request your written and email comments to be provided no later than June 1, 2003.

ADDRESSES: Submit all comments to: Loretta Petty Chittum, Chair, Assistive Technology Mobility Devices Working Group, Deputy Assistant Secretary, Office of Special Education and Rehabilitative Services, 400 Maryland Avenue, SW., Room 3006, Switzer Building, Washington, DC 20202, FAX: (202) 205-9252, PHONE: (202) 205-5465, E-MAIL: OSERS.AT@ED.GOV.

FOR FURTHER INFORMATION CONTACT: Loretta Petty Chittum, Chair, Assistive Technology Mobility Devices Working Group, Deputy Assistant Secretary, Office of Special Education and Rehabilitative Services, 400 Maryland Avenue, SW., Room 3006, Switzer Building, Washington, DC 20202, FAX: (202) 205-9252, PHONE: (202) 205-5465, E-MAIL: OSERS.AT@ED.GOV. If you use a telecommunications device for the deaf, you may call (202) 205-5637 and select “public comments”.

Individuals with disabilities may obtain a copy of this notice in an alternative format (e.g., Braille, large print, audiotape, or computer diskette) on request to the contact person listed in the previous paragraph.

Availability of Copies of the Executive Memorandum: You may obtain an electronic copy of the Executive Memorandum on the Internet at the following site: http://www.whitehouse.gov/news/releases/2003/02/20030212-12.html.

Availability of Copies of the National Classification System for Assistive Technology Devices and Services: You may obtain an electronic copy of this document on the Internet at the following site: http://www.ed.gov/offices/OSERS/NIDRR/Products/National_Classification_System.doc.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Robert H. Pasternack,
Assistant Secretary for Special Education and Rehabilitative Services.

[FR Doc. 03-10201 Filed 4-24-03; 8:45 am]

BILLING CODE 4000-01-M